DEPARTMENT OF EDUCATION

Technical Assistance on Data Collection — Technical Assistance Center for Data Collection, Analysis, and Use for Accountability in Special Education and Early Intervention

Correction

In notice document E7-13142 beginning on page 37086 in the issue of Friday, July 6, 2007, make the following correction:

On page 37086, in the first column, under the heading DATES, in the second line, “August 6, 2006” should read “August 6, 2007”.

[FR Doc. Z7-13142 Filed 7-23-07; 8:45 am]

BILLING CODE 1505-01-D